DEPARTMENT OF HEALTH AND HUMAN SERVICES

Health Resources and Services Administration

Part F Special Projects of National Significance Program Cooperative Agreement Under the Ryan White HIV/AIDS Program

AGENCY: Health Resources and Services Administration (HRSA), HHS.

ACTION: Notice of Non-Competitive Award of Part F Funds for the Special Projects of National Significance (SPNS) Program's Emory University, the Enhancing Linkages to HIV Care and Treatment in Jail Settings Initiative, Evaluation and Support Center. This supplement will cover the time period from September 1, 2011, through August 31, 2012.

SUMMARY: This Federal Register notice announces the non-competitive extension of Emory University, the Enhancing Linkages to HIV Care and Treatment in Jail Settings Initiative, Evaluation and Support Center (hereafter referred to as the Enhancing Linkages ESC), in order to complete data collection, analysis, and dissemination of effective models for linking HIV positive individuals in jail settings to HIV care and services in the community upon their release. The findings generated by this Initiative are capable of impacting service delivery systems and increase linkages to critical HIV care and support services if the model programs can be adapted in jails and HIV service delivery settings across the United States, as well as to demonstrate that HIV testing and linkage to care in jail settings, and transitioning individuals to HIV care and treatment in the community is feasible and effective.

SUPPLEMENTARY INFORMATION: Grantee of record: Emory University.

Amount of the award: $550,000.

Authority: Section 2691 of the Public Health Service Act, 42 U.S.C. 300ff-101.

CFDA Number: 93.928.

Project period: September 1, 2006, to August 31, 2011. The period of support for this award is from September 1, 2011, to August 31, 2012.

Justification for the Exception to Competition

Emory University's Enhancing Linkages ESC has provided substantial programmatic and evaluation technical assistance, received client and program level data from 10 demonstration sites, and disseminated preliminary descriptive information on demonstration sites' linkage models. This is a temporary extension with Part F Funds, as the grant recipient did not begin receiving client and program level data from the demonstration sites until late into the third year of the ESC's project period. This was due to demonstration sites' delays in receiving required human subjects research approvals. The SPNS Enhancing Linkages ESC is the best qualified Grantee to ensure the continuity of data collection protocols, data integrity and security until all client and program level data has been submitted and analyzed.

FOR FURTHER INFORMATION CONTACT: Adan Cajina, by e-mail acajina@hrsa.gov, or via telephone, 301-443-3180.

Dated: May 13, 2011.
Mary K. Wakefield,
Administrator.

[FR Doc. 2011-12481 Filed 5-19-11; 8:45 am]

BILLING CODE 4165-15-P